DEPARTMENT OF DEFENSE

Defense Acquisition Regulations System

48 CFR Parts 232, 242, and 252

[Docket DARS-2018-0042]

RIN 0750-AJ28

Performance-Based Payments and Progress Payments (DFARS Case 2017-D019)

AGENCY: Defense Acquisition Regulations System, Department of Defense (DoD).

ACTION: Proposed rule; withdrawal and cancellation of public meeting.

SUMMARY: DoD is withdrawing the proposed rule on performance-based payments and progress payments that published on August 24, 2018, and is cancelling the public meeting previously scheduled to be held on October 10, 2018.

DATES: As of October 4, 2018, the proposed rule published on August 24, 2018, at 83 FR 42831 is withdrawn.

The public meeting scheduled for October 10, 2018, as announced on September 21, 2018, at 83 FR 47867, is cancelled.

FOR FURTHER INFORMATION CONTACT: Ms. Amy Williams, OUSD(A&S) DPC/DARS, at 571-372-6106.

SUPPLEMENTARY INFORMATION: This proposed rule is withdrawn in order for DoD to conduct additional outreach with industry regarding contract financing methods. Implementation in the Defense Federal Acquisition Regulation Supplement (DFARS) of section 831 of the National Defense Authorization Act for Fiscal Year 2017 will be addressed in a proposed rule to be published under DFARS Case 2019-D002. Any other changes to contract financing policy will be addressed under DFARS Case 2019-D001.

List of Subjects in 48 CFR Parts 232, 242, and 252

Government procurement.

Jennifer Lee Hawes,
Regulatory Control Officer, Defense Acquisition Regulations System.

[FR Doc. 2018-21714 Filed 10-3-18; 8:45 am]

BILLING CODE 5001-06-P